DEPARTMENT OF ENERGY

Notice of Intent To Prepare a Supplemental Environmental Impact Statement for Disposition of Depleted Uranium Oxide Conversion Product Generated From DOE's Inventory of Depleted Uranium Hexafluoride; Correction

AGENCY: U.S. Department of Energy.

ACTION: Notice of intent; correction.

SUMMARY: The Department of the Energy (DOE) published a document in the Federal Register (81 FR 58921) on August 26, 2016, announcing a Notice of Intent to Prepare a Supplemental Environmental Impact Statement for Disposition of Depleted Uranium Oxide Conversion Product Generated from DOE's Inventory of Depleted Uranium Hexafluoride. The document contained an error regarding the agency that granted the amendment to the Waste Control Specialists facility near Andrews, Texas, to allow disposal of depleted uranium. This document corrects that error.

FOR FURTHER INFORMATION CONTACT: For further information on DOE's DUF6 long-term management and disposal program, please contact Ms. Jaffet Ferrer-Torres, National Environmental Policy Act (NEPA) Document Manager, Office of Environmental Management, U.S. Department of Energy, EM-4.22, 1000 Independence Avenue SW., Washington, DC 20585.

Correction

In the Federal Register (81 FR 58921) of August 26, 2016, FR Doc. 2016-20501, on page 58922, third column, first paragraph, the first sentence is corrected to read: “In August 2014, the WCS facility near Andrews, Texas, was granted a license amendment by the Texas Commission on Environmental Quality that would allow disposal of large quantities of depleted uranium.”

Issued in Washington, DC, on August 31, 2016.
Mark Senderling,
Acting Associate Principal Deputy Assistant Secretary for Regulatory and Policy Affairs.

[FR Doc. 2016-21428 Filed 9-6-16; 8:45 am]

BILLING CODE 6450-01-P